ENVIRONMENTAL PROTECTION AGENCY

[EPA-HQ-OARM-2015-0210; FRL 9924-95-OARM]

National and Governmental Advisory Committees to the U.S. Representative to the Commission for Environmental Cooperation

AGENCY: Environmental Protection Agency (EPA).

ACTION: Notice of Advisory Committee meeting.

SUMMARY: Under the Federal Advisory Committee Act, Public Law 92-463, the Environmental Protection Agency (EPA) gives notice of a meeting of the National Advisory Committee (NAC) and Governmental Advisory Committee (GAC) to the U.S. Representative to the North American Commission for Environmental Cooperation (CEC). The National and Governmental Advisory Committees advise the EPA Administrator in her capacity as the U.S. Representative to the CEC Council. The committees are authorized under Articles 17 and 18 of the North American Agreement on Environmental Cooperation (NAAEC), North American Free Trade Agreement Implementation Act, Public Law 103-182, and as directed by Executive Order 12915, entitled “Federal Implementation of the North American Agreement on Environmental Cooperation.” The NAC is composed of 15 members representing academia, environmental non-governmental organizations, and private industry. The GAC consists of 14 members representing state, local, and tribal governments. The committees are responsible for providing advice to the U.S. Representative on a wide range of strategic, scientific, technological, regulatory, and economic issues related to implementation and further elaboration of the NAAEC.

The purpose of the meeting is to provide advice on issues related to the CEC's draft Operational Plan and Budget for 2015-16, the CEC's draft Strategic Plan for 2015-2020, and to discuss additional trade and environment issues. The meeting will also include a public comment session. The agenda, meeting materials, and general information about the NAC and GAC will be available at http://www2.epa.gov/faca/nac-gac.

DATES: The National and Governmental Advisory Committees will hold an open meeting on Thursday, April 16, 2015 from 9:00 a.m. to 5:00 p.m., and Friday, April 17, 2014 from 9:00 a.m. until 3:00 p.m.

ADDRESSES: The meeting will be held at the U.S. EPA, Conference Room B-305, located in the William Jefferson Clinton North Building, 1200 Pennsylvania Ave. NW., Washington, DC 20004. Telephone: 202-564-2294. The meeting is open to the public, with limited seating on a first-come, first-served basis.

FOR FURTHER INFORMATION CONTACT: Oscar Carrillo, Designated Federal Officer, carrillo.oscar@epa.gov, 202-564-0347, U.S. EPA, Office of Diversity, Advisory Committee Management and Outreach (1601-M), 1200 Pennsylvania Avenue NW., Washington, DC 20460.

SUPPLEMENTARY INFORMATION: Requests to make oral comments, or provide written comments to the committees, should be sent to Oscar Carrillo, Designated Federal Officer, at the contact information above. If you plan to attend, please register with Ms. Stephanie McCoy, by April 9th by calling 202-564-7297 or via email at mccoy.stephanie@epa.gov. Please provide your name, organization, address and telephone number.

Meeting Access: For information on access or services for individuals with disabilities, or to request accommodation of a disability, please contact Oscar Carrillo, at least 10 days prior to the meeting to give EPA as much time as possible to process your request.

Dated: March 12, 2015.
Oscar Carrillo,
Designated Federal Officer.

[FR Doc. 2015-06591 Filed 3-20-15; 8:45 am]

BILLING CODE 6560-50-P